OFFICE OF THE UNITED STATES TRADE REPRESENTATIVE

Generalized System of Preferences (GSP); Consideration of Two Petitions To Alter AGOA Benefits for Canned Pears and Manganese Metal; Notice of Review Timetable and Public Hearings Regarding These Petitions

AGENCY: Office of the United States Trade Representative.

ACTION: Notice.

SUMMARY: The Trade Policy Staff Committee (TPSC) provides this notice to identify the Harmonized Tariff Schedule of the United States (HTS) numbers of two articles proposed for designation or termination as GSP-eligible articles when imported from African Growth and Opportunity Act (AGOA) beneficiary countries (see ANNEX). This notice also sets forth the timetable for public hearings for GSP Subcommittee consideration in reviewing the articles for GSP eligibility, and the procedures for further public comment.

FOR FURTHER INFORMATION CONTACT: GSP Subcommittee, Office of the United States Trade Representative, Room F220, 1724 F Street, NW., Washington, DC 20508. Telephone: (202) 395-6971.

SUPPLEMENTARY INFORMATION: The GSP program grants duty-free treatment to designated eligible articles imported from designated beneficiary developing countries. The GSP program is authorized by Title V of the Trade Act of 1974, as amended (19 U.S.C. 2461 et seq.). The GSP program was implemented by Executive Order 11888 of November 24, 1975, and modified by subsequent Executive Orders and Presidential Proclamations. Legislation amending the GSP program to, inter alia, extend GSP benefits to AGOA beneficiaries through September 30, 2008, was signed by the President on May 18, 2000 (19 U.S.C. 2462-67).

In a notice dated April 13, 2001, the United States Trade Representative (USTR) initiated the 2001 GSP Annual Review and announced a deadline of June 13, 2001, for filing petitions (63 FR 1893). The GSP Subcommittee of the TPSC has considered only those petitions involving AGOA benefits; the GSP program remains in effect for AGOA beneficiaries, notwithstanding the expiration of the GSP program for all other beneficiary countries on September 30, 2001.

The Annex to this notice sets forth the case number, U.S. HTS number, change requested and petitioner for each AGOA petition that has been accepted for review.

Opportunities for Public Comment and Inspection of Comments

The GSP Subcommittee invites comments in support of, or in opposition to, any petition which is the subject of this notice. Submissions should comply with 15 CFR part 2007, including sections 2007.0 and 2007.1. All submissions should identify the subject article(s) in terms of the current U.S. HTS nomenclature.

Comments should be submitted, in English, to the Chairman of the GSP Subcommittee by facsimile at (202) 395-9481. Information submitted will be subject to public inspection by appointment with the staff of the USTR public reading room, except for information granted “Business Confidential” status pursuant to 15 CFR 2003.6, and other qualifying information submitted in confidence pursuant to 15 CFR 2007.7. If the document contains confidential information, a confidential version of the submission also should be submitted. In addition, any document containing confidential information should be clearly marked “Confidential” at the top and bottom of each page of the document. The version that does not contain confidential information also should be clearly marked at the top and bottom of every page (either “Public Version” or “Nonconfidential”). Comments should be submitted no later than 5 p.m. on February 20, 2002.

Notice of Public Hearings

Hearings will be held on March 5, 2002, beginning at 10 a.m. at the Office of the United States Trade Representative, Annex, 1724 F Street, NW., Washington, DC 20508. The hearings will be open to the public and a transcript of the hearings will be made available for public inspection or can be purchased from the reporting company. No electronic media coverage will be allowed.

All interested parties wishing to present oral testimony at the hearings must submit the name, address, and telephone number of the witnesses representing their organization to the Chairman of the GSP Subcommittee. Such requests to present oral testimony at the public hearings should be accompanied by a written brief or statement, in English, and should be received by 5 p.m. on February 20, 2002. Oral testimony before the GSP Subcommittee will be limited to five-minute presentations that summarize or supplement information contained in the briefs or statements submitted for the record. Post-hearing and rebuttal briefs or statements should conform to the regulations cited above and be submitted, in English, no later than 5 p.m. on March 2, 2002. Interested persons not wishing to appear at the public hearings may also submit pre-hearing written briefs or statements by 5 p.m. on February 20, 2002, and post-hearing and rebuttal written briefs or statements by March 20, 2002. Comments by interested persons on the U.S. International Trade Commission (USITC) Report prepared as part of the product review should be submitted in English, by 5 p.m. on May 22, 2002.

Jon Rosenbaum,
Assistant USTR for Trade and Development and, Chairman, GSP Subcommittee, Trade Policy Staff Committee.

[FR Doc. 02-1683 Filed 1-23-02; 8:45 am]

BILLING CODE 3901-01-M